DEPARTMENT OF LABOR

Employment and Training Administration

Labor Surplus Area Classifications Under Executive Orders 12073 and 10582; Notice of Addition to the Annual List of Labor Surplus Areas

AGENCY: Employment and Training Administration, Labor.

ACTION: Notice.

SUMMARY: The purpose of this notice is to announce an addition to the annual list of labor surplus ares.

DATES: This addition to the annual list of labor surplus areas is effective February 1, 2000.

FOR FURTHER INFORMATION CONTACT: William J. McGarrity, Labor Economist, USES, Employment and Training Administration, 200 Constitution Avenue, NW., Room N-4464, Attention: TEESS, Washington, D.C. 20210. Telephone: 202-219-5185, ext. 129.

SUPPLEMENTARY INFORMATION: The Department of Labor regulations implementing Executive Orders 12073 and 10582 are set forth at 20 CFR Part 654, Subparts A and B. Subpart A requires the Assistant Secretary of Labor to classify jurisdictions as labor surplus areas pursuant to the criteria specified in the regulations and to publish annually a list of labor surplus areas. Pursuant to those regulations the Assistant Secretary of Labor published the annual list of labor surplus areas on October 15, 1999 (64 FR 55969).

Subpart B of Part 654 states that an area of substantial unemployment for purposes of Executive Order 10582 is any area classified as a labor surplus area under Subpart A. Thus, labor surplus areas under Executive Order 12073 are also areas of substantial unemployment under Executive Order 10582.

The area listed below has been classified by the Assistant Secretary as a labor surplus area pursuant to 20 CFR 654.5(b) effective February 1, 2000.

Signed at Washington, D.C. on January 31, 2000.
Raymond L. Bramucci,
Assistant Secretary.

Addition to the Annual List of Labor Surplus Areas
[February 1, 2000]
Labor surplus area | Civil jurisdiction included
Illinois: DeWitt County | DeWitt County.

[FR Doc. 00-6657 Filed 3-16-00; 8:45 am]

BILLING CODE 4510-30-M